DEPARTMENT OF ENERGY

Federal Energy Regulatory Commission

[Project No. 7656-012]

John A. Dodson; Notice of Proposed Termination of License by Implied Surrender and Soliciting Comments, Protests and Motions To Intervene

Take notice that the following hydroelectric proceeding has been initiated by the Commission:

a. Type of Proceeding: Proposed Termination of License by Implied Surrender.

b. Project No.: 7656-012.

c. Date Initiated: April 14, 2016.

d. Licensee: John A. Dodson.

e. Name and Location of Project: Buttermilk Falls Hydroelectric Project located on Buttermilk Falls Brook, in Orange County, New York.

f. Filed Pursuant to: Standard Article 16.

g. Licensee Contact Information: Mr. John A. Dodson, P.O. Box 221, Highland Falls, New York 10928, Phone: (914) 446-7704.

h. FERC Contact: Mr. Ashish Desai, (202) 502-8370, Ashish.Desai@ferc.gov.

i. Deadline for filing comments, protests, and motions to intervene is 30 days from the issuance date of this notice by the Commission. The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-7656-012.

j. Description of Project Facilities: (1) An 18-inch-high, 15-foot-long dam; (2) an 18-inch-diameter, 400-foot-long PVC penstock; (3) a powerhouse containing two generating units for a total installed capacity of 79 kilowatts; (4) a 300-foot-long, 480-volt transmission line; and (5) appurtenant facilities.

k. Description of Proceeding: The licensee is in violation of standard Article 16 of its license issued on June 24, 1986 (35 FERC ¶ 62,532). Article 16 states, in part: If the Licensee shall abandon or discontinue good faith operation of the project or refuse or neglect to comply with the terms of the license and the lawful orders of the Commission mailed to the record address of the Licensee or its agent, the Commission will deem it to be the intent of the Licensee to surrender the license.

Commission records indicate that the project has not been operated since the fall of 2012 when heavy storms flooded the powerhouse. Due to an ongoing property rights dispute involving access to and the use of lands needed for project purposes, the licensee has been reluctant to repair the project and return it to service. In addition, the licensee has not responded to several Commission requests to file a plan and schedule to restore project operation in a timely manner.

l. This notice is available for review and reproduction at the Commission in the Public Reference Room, Room 2A, 888 First Street NE., Washington, DC 20426. The notice and other project records may also be viewed on the Commission's Web site at http://www.ferc.gov/docs-filing/elibrary.asp. Enter the Docket number (P-7656-012) excluding the last three digits in the docket number field to access the notice. You may also register online at http://www.ferc.gov/docs-filing/esubscription.asp to be notified via email of new filings and issuances related to this or other pending projects. For assistance, call toll-free (866) 208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS,” “PROTEST,” or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, protests, or motions to intervene should relate to project works which are the subject of the implied surrender. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding in accordance with 18 CFR 4.34(b) and 385.2010.

Dated: April 15, 2016.
Kimberly D. Bose,
Secretary.

[FR Doc. 2016-09228 Filed 4-20-16; 8:45 am]

BILLING CODE 6717-01-P